DEPARTMENT OF HEALTH AND HUMAN SERVICES

Centers for Disease Control and Prevention

[30Day-18-17ZX]

Agency Forms Undergoing Paperwork Reduction Act Review

In accordance with the Paperwork Reduction Act of 1995, the Centers for Disease Control and Prevention (CDC) has submitted the information collection request titled “Childhood Blood Lead Surveillance (CBLS) and Adult Blood Lead Epidemiology and Surveillance (ABLES)” to the Office of Management and Budget (OMB) for review and approval. CDC previously published a “Proposed Data Collection Submitted for Public Comment and Recommendations” notice on April 6, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to OMB@cdc.gov. Direct written comments and/or suggestions regarding the items contained in this notice to the Attention: CDC Desk Officer, Office of Management and Budget, 725 17th Street NW., Washington, DC 20503 or by fax to (202) 395-5806. Provide written comments within 30 days of notice publication.

Proposed Project

Childhood Blood Lead Surveillance (CBLS) and Adult Blood Lead Epidemiology and Surveillance (ABLES)—New—National Center for Environmental Health (NCEH), Centers for Disease Control and Prevention (CDC).

Background and Brief Description

Over the past several decades, there have been substantial efforts in environmental lead abatement, improved protection from occupational lead exposure, and a reduction in the prevalence of population blood-lead levels (BLLs) over time. U.S. population BLLs have substantially decreased over the last four decades. For example, the CDC has reported the 1976-1980 U.S. BLL mean in children, 6 months to 5 years, as 16.0 micrograms per deciliter (μg/dL); and among adults, 18 to 74 years, as 14.1 μg/dL. More recently, the CDC reported the 2009-2010 U.S. BLL geometric means among children, 1 to 5 years, and among adults, 20 years and older, as 1.2 μg/dL. Despite the reduction in the overall population BLL over four decades, lead exposures continue to occur at unacceptable levels for individuals in communities and workplaces across the nation. As of 2015, both the National Center for Environmental Health (NCEH) and the National Institute for Occupational Safety and Health (NIOSH) define elevated BLLs as greater than or equal to 5 μg/dL for individuals of all ages.

NCEH is leading this new three-year information collection project that covers two CDC information collections, one for childhood blood lead surveillance by NCEH and another for adult blood lead surveillance by NIOSH. Thus, blood lead surveillance over the human lifespan is covered under this single ICR, specifically for children, less than 16 years, through the NCEH Childhood Blood Lead Surveillance (CBLS) Program, and for adults, 16 years and older, through the NIOSH Adult Blood Epidemiology and Surveillance (ABLES) Program.

The goal of the NCEH CBLS Program is to support blood lead screening and to promote primary prevention of exposure to lead. Also, the CBLS Program supports secondary prevention of adverse health effects when lead exposures occur in children through improved program management and oversight in respondent jurisdictions.

This new information collection project will cover the NCEH Fiscal Year 2017 (FY17) three-year cooperative agreement, titled “Lead Poisoning Prevention—Childhood Lead Poisoning Prevention—financed partially by Prevention and Public Health Funds” (Funding Opportunity Announcement [FOA] No. CDC-RFA-EH17-1701-PPHF17). The first year of this new program, with 48 awardees, will run concurrently with the final and fourth budget year for “PPHF 2014: Lead Poisoning Prevention—Childhood Lead Poisoning Prevention—financed solely by 2014 Prevention and Public Health Funds” (FOA No. CDC-RFA-EH14-1408PPHF14). The information collection project titled “Healthy Homes and Lead Poisoning Surveillance System (HHLPSS)” (OMB Control Number 0920-0931; expiration date05/31/2018) is funded by an existing four-year FY14 cooperative agreement with up to 40 awardees. Returning awardees will submit childhood blood lead surveillance data under HHLPSS for the final year of the FY14 program, and then will continue to submit data for the second year of the FY17 program under this new project.

New FY17 awardees will submit CBLS data only under this new information collection project. NCEH is requesting approval for the following differences for the new program: (1) Clarifying awardees' procedures for data delivery into the CBLS system; and (2) revising the CBLS Variables forms to remove healthy homes variables. Based on available FY17 funds, NCEH is also requesting the following: (3) Increasing the number of potential NCEH respondents from 40 to 48; and (4) increasing the NCEH annual time burden from 640 to 760 hours.

On a quarterly basis, CDC anticipates that up to 47 CBLS respondents will submit quarterly text files of individual blood lead test records. Based on experience, CDC also anticipates that one awardee will report quarterly aggregated records to CBLS. The estimated annual time burden for NCEH CBLS is 760 hours.

The goal of the NIOSH Adult Blood Lead Epidemiology and Surveillance (ABLES) Program is to build state capacity for adult blood lead surveillance programs to measure trends in adult blood lead levels and to prevent lead over-exposures. CDC is taking this opportunity to provide the public with a detailed description of the NIOSH ABLES information collection. Previously, ABLES was included but not fully described in the HHLPSS information collection request (OMB Control Number 0920-0931; expiration date 05/31/2018). To correct for this omission, NIOSH is requesting approval for the following: (1) Providing a detailed description of the authority and scope of the ABLES information reporting procedures; (2) adding 40 NIOSH respondents to the burden table; and (3) adding 280 hours for the NIOSH annual time burden. Once approved in this new information collection request, CDC will submit a revision request to remove the description of the ABLES Program from the existing HHLPSS project.

On an annual basis, and in addition to a brief narrative report of notable lead surveillance activities in the past year, NIOSH gives ABLES respondents the option to report either individual adult case blood lead results or aggregate counts of adult blood lead test results. NIOSH anticipates that 80 percent of state programs will send case records and 20 percent will send aggregate records. The estimated annual time burden for NIOSH ABLES is 280 hours.

In total, CDC is requesting approval for a total annual time burden of 1,040 hours. CDC defines respondents as State or local health departments, or their Bona Fide agents, with lead poisoning prevention programs.

Estimated Annualized Burden Hours
Type of respondents | Form name | Number of respondents | Number of responses per respondent | Average burden per response (in hours)
State or Local Health Departments, or their Bona Fide Agents | Childhood Blood Lead Surveillance (CBLS Variables—Text Files | 47 | 4 | 4
State or Local Health Departments, or their Bona Fide Agents | CBLS—Aggregate Records Form | 1 | 4 | 2
State or Local Health Departments, or their Bona Fide Agents | Adult Blood Lead Epidemiology and Surveillance (ABLES) Case Records Form and Brief Narrative Report | 32 | 1 | 8
State or Local Health Departments, or their Bona Fide Agents | ABLES Aggregate Records Form and Brief Narrative Report | 8 | 1 | 3

Leroy A. Richardson,
Chief, Information Collection Review Office, Office of Scientific Integrity, Office of the Associate Director for Science, Office of the Director, Centers for Disease Control and Prevention.

[FR Doc. 2017-24417 Filed 11-8-17; 8:45 am]

BILLING CODE 4163-18-P